NATIONAL LABOR RELATIONS BOARD

Sunshine Act Meeting

AGENCY HOLDING THE MEETING: National Labor Relations Board.

TIME AND DATE: 10:00 a.m., Friday, March 24, 2000.

PLACE: Board Conference Room, Eleventh Floor, 1099 Fourteenth St., NW., Washington, DC 20570.

STATUS: Closed to public observation pursuant to 5 U.S.C. Section 552b(c)(2) (internal personnel rules and practices); and (9)(B) disclosure would significantly frustrate implementation of a proposed Agency action).

MATTERS TO BE CONSIDERED: Personnel Matters.

CONTACT PERSON FOR MORE INFORMATION: John J. Toner, Executive Secretary, Washington, D.C. 20570, Telephone: (202) 273-1940.

Dated, Washington, DC., March 23, 2000.
By direction of the Board.
John J. Toner,
Executive Secretary, National Labor Relations Board.

[FR Doc. 00-7700 Filed 3-24-00; 10:54 am]

BILLING CODE 7545-01-M